NUCLEAR REGULATORY COMMISSION

[Docket Nos. 72-15 and 50-219]

AmerGen Energy Company, LLC, Oyster Creek Generating Station; Receipt of Request for Action Under 10 CFR 2.206

Notice is hereby given that by petition dated June 21, 2002, Ms. Edith Gbur of the Jersey Shore Nuclear Watch, et al. (petitioners), have requested that the Nuclear Regulatory Commission (NRC) take action with regard to AmerGen Energy Company's Oyster Creek Generating Station Independent Spent Fuel Storage Installation.

The petitioners requested the following NRC actions:

(1) Suspend Certificate of Compliance (CoC) No. 1004 for the NUHOMS dry spent fuel storage system.

(2) Halt transfer of spent fuel from wet pool storage to dry storage modules.

(3) Conduct a site-specific public hearing before independent judges on the dry cask licensing proceeding for Oyster Creek Generating Station (Oyster Creek) and other nuclear issues identified in the petition.

(4) Make a determination of the NUHOMS' capability to withstand terrorist attacks similar to those on September 11, 2001.

(5) Develop criteria and regulations to empirically verify dry storage system capability and to apply those requirements to Oyster Creek.

(6) Halt loading until a thorough inspection of the total system has been completed to verify that the NUHOMS modules were fabricated properly and will last the design life.

As the basis for the request, the petitioners presented a number of safety concerns related to:

(1) Location of the Oyster Creek independent spent fuel storage installation relative to local roads and communities;

(2) Ability of the NUHOMS dry spent fuel storage system to survive a sabotage attack;

(3) Adequacy of Oyster Creek security measures for fuel handling activities;

(4) Adequacy of the Oyster Creek emergency evacuation plan; and

(5) Quality of the NUHOMS systems planned for use at Oyster Creek.

The request is being addressed pursuant to 10 CFR 2.206 of the Commission's regulations. The request has been referred to the Director of the Office of Nuclear Material Safety and Safeguards. As provided by Section 2.206, appropriate action will be taken on this petition within a reasonable time. The petitioner participated in a telephone call with the Office of Nuclear Material Safety and Safeguards' Petition Review Board on July 18, 2002, to discuss the petition. The results of that discussion were considered in the Board's determination regarding the petitioner's request for immediate action and in establishing the schedule for review of the petition. By letter dated August 12, 2002, the Director denied the petitioner's request for immediate suspension of Certificate of Compliance No. 1004 for the NUHOMS dry spent fuel storage system and to halt transfer of spent fuel from wet pool storage to dry storage modules at the Oyster Creek Generating Station. A copy of the petition is available for inspection in the Agencywide Documents Access and Management System (ADAMS), which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-800-397-4209, 301-415-4737 or by e-mail to pdr@nrc.gov.

Dated at Rockville, Maryland, this 12th day of August, 2002.
For the Nuclear Regulatory Commission.
Martin J. Virgilio,
Director, Office of Nuclear Material Safety and Safeguards.

[FR Doc. 02-21524 Filed 8-22-02; 8:45 am]

BILLING CODE 7590-01-P